DEPARTMENT OF EDUCATION

Reopening; Notice Inviting Applications for the Proprietary Institution Grant Funds for Students Program Under the Higher Education Emergency Relief Fund (HEERF); American Rescue Plan Act, 2021 (ARP)

AGENCY: Office of Postsecondary Education, Department of Education.

ACTION: Notice.

SUMMARY: On May 13, 2021, the U.S. Department of Education (Department) published in the Federal Register a notice announcing the availability of funds and application deadlines for the ARP (a)(4) grant funding under the Proprietary Institution Grant Funds for Students Program, Assistance Listing Number (ALN) 84.425Q, as authorized under section 2003 of the ARP. The Department reopens, until September 10, 2021, the period for both submission of new ARP (a)(4) applications, and the Required Proprietary Institution Certification (RPIC) form for supplemental ARP (a)(4) awards.

DATES:

Deadline for Transmittal of Applications: Applications will be accepted on a rolling basis until September 10, 2021.

Deadline for Submission of Required Proprietary Institution Certification Form: September 10, 2021.

FOR FURTHER INFORMATION CONTACT: Karen Epps, U.S. Department of Education, 400 Maryland Avenue SW, Room 250-64, Washington, DC 20202. Telephone: The Department of Education HEERF Call Center at (202) 377-3711. Email: HEERF@ed.gov. Please also visit our HEERF website at: www2.ed.gov/about/offices/list/ope/arp.html.

If you use a telecommunications device for the deaf (TDD) or a text telephone (TTY), call the Federal Relay Service (FRS), toll free, at 1-800-877-8339.

SUPPLEMENTARY INFORMATION: On May 13, 2021, we published in the Federal Register (86 FR 26210) a notice announcing availability of new ARP (a)(4) grant funds and application deadlines for grant funding under the Proprietary Institution Grant Funds for Students Program, ALN 84.425Q, as authorized under section 2003 of the ARP. Each application for an ARP (a)(4) grant must include—

• A complete SF-424;

• Supplemental Information for the SF-424;

• A complete RPIC form, available at www2.ed.gov/about/offices/list/ope/arp.html; and

• The Proprietary Institution Grant Funds for Students Certification and Agreement (C&A).

The Department also announced that it would award supplemental funds to eligible institutions that previously received a Coronavirus Response and Relief Supplemental Appropriations Act, 2021 (CRRSAA) section 314(a)(4) award, ALN 84.425Q, without requiring these institutions to submit a new application for funding. However, by August 11, 2021 and prior to receiving an award, eligible institutions were required to submit an RPIC form signed by the institution's president or chief executive officer and any owners with an ownership interest in the institution of 25 percent or more. The Department reopens the period, until September 10, 2021, for transmittal of both: (1) New ARP (a)(4) applications, and (2) RPIC forms for institutions to receive supplemental ARP (a)(4) awards. The Department will accept complete applications submitted at any time prior to the deadline on September 10, 2021. All other requirements and conditions stated in the notice announcing availability of funds remain the same.

Program Authority: Section 2003 of the ARP and section 314 of the CRRSAA.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents published by this Department in the Federal Register, in text or Portable Document Format (PDF). To use PDF you must have Adobe Acrobat Reader, which is available free through a link at the site.

You may also access documents of the Department published in the Federal Register by using the article search feature at www.federalregister.gov. Specifically, through the advanced search feature at this site, you can limit your search to documents published by the Department.

Annmarie Weisman,
Deputy Assistant Secretary for Policy, Planning and Innovation, Office of Postsecondary Education.

[FR Doc. 2021-17642 Filed 8-16-21; 8:45 am]

BILLING CODE 4000-01-P